DEPARTMENT OF HOUSING AND URBAN DEVELOPMENT

[Docket No. FR-5916-N-14]

60-Day Notice of Proposed Information Collection: Family Report, MTW Family Report

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 18, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in Section A.

A. Overview of Information Collection

Title of Information Collection: Family Report, MTW Family Report.

OMB Approval Number: 2577-0083.

Type of Request: Extension of currently approved collection.

Form Number: Form HUD 50058 Family Report, and HUD 50058 MTW Family Report.

Description of the need for the information and proposed use: The Office of Public and Indian Housing of the Department of Housing and Urban Development (HUD) provides funding to Public Housing Agencies (PHAs) to administer assisted housing programs. Form HUD-50058 MTW Family Reports solicit demographic, family profile, income and housing information on the entire nationwide population of tenants residing in assisted housing. The information collected through the Form HUD-50058 MTW will be used to monitor and evaluate the Office of Public and Indian Housing, Moving to Work (MTW) Demonstration program which includes Public Housing, Section 8 Housing Choice Voucher, Section 8 Project Based Certificates and Vouchers, Section 8 Moderate Rehabilitation and Moving to Work (MTW) Demonstration programs.

Tenant data is collected to understand demographic, family profile, income, and housing information for participants in the Public Housing, Section 8 Housing Choice Voucher, Section 8 Project Based Certificate, Section 8 Moderate Rehabilitation, and Moving to Work Demonstration programs. This data also allows HUD to monitor the performance of programs and the performance of public housing agencies that administer the programs.

Reason for PRA

• MTW Agencies are providing housing assistance through a wide variety of interesting and creative programs that fall outside of sections 8 and 9 need to be able to report households served through these programs into PIC.¹

¹ PIH Notice 2011-45 (HA), issued August 15, 2011, clarifies HUD policies, Federal statutes and regulations that apply to local, non-traditional activities implemented under the Moving to Work (MTW) demonstration program.

• The Moving to Work (MTW) PIC Module is currently unable to capture all of the households served through MTW activities because the HUD 50058 MTW Form in PIC does not have a code for reporting Local, Non-Traditional assisted families in the PIC system.

• Agencies have not been reporting these families into PIC and this makes it difficult to accurately account for the number of MTW families being served.

Background

• The MTW statute (1996 Appropriations Act, Section 204) states that an agency may combine its funding as provided under Sections 8 and 9 to provide housing assistance and services for low-income families. At the outset of the demonstration, a number of MTW agencies used this flexibility to design activities that went outside the bounds of the eligible activities of Sections 8 and 9 of the 1937 Act. Though the Standard MTW Agreement did not contain this flexibility, HUD committed to MTW agencies during negotiations that any provision permitted under an agency's original MTW agreement that was legal could be retained under the Standard Agreement.

• On October 1, 2009, the U.S. Department of Housing and Urban Development issued a letter to MTW agencies regarding the availability of the broader uses of funds authority, under the Moving to Work (MTW) program. The letter provided a brief description of the required steps that must be completed in order for agencies to access this additional MTW authorization.

Revision to HUD 50058 MTW—PIC System Change

• Create a Local, Non-Traditional Assistance “LN” program code categorization in Section 1.C Form 50058-MTW to track households that are provided assistance through local, non-traditional MTW programs in addition to public housing, tenant-based and project-based assistance.

• Add Local, Non-Traditional Assistance to the heading of Section 21 of Form 50058-MTW to allow detailed reporting on this type of assistance.

Respondents (i.e. affected public): Public Housing Agencies, State and local governments, individuals and households.

Estimated Number of Respondents: 4,149.

Information collection | Number of respondents (PHA) (with responses) | * Average number of responses per respondent (with responses) | Total annual responses | Minutes per response | Total hours | Regulatory reference (24 CFR) * See attached
Form HUD-50058 New Admission | 4,114 | 87 | 355,984 | 40 | 237,323
Form HUD-50058 Recertification | 4,114 | 583 | 2,398,340 | 20 | 799,447
Form HUD-50058 MTW New Admission | 35 | 529 | 13,515 | 40 | 3,010
Form HUD-50058 Recertification MTW | 35 | 4018 | 140,630 | 20 | 46,876
Total | 4,149 |  | 2,874,934 |  | 1,081,685
* Average Number of Responses per Respondents = Total Annual Responses/Number of Respondents.
Estimated annualized hourly cost to respondents (PHA); Form HUD-50058: To report using Form HUD-50058 Family Report, it will cost the average PHA $1,051 annually to enter and submit all data for New Admission and $3,483 annually for Recertification.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: August 12, 2016.
Merrie Nichols-Dixon,
Deputy Director, Office of Policy, Programs and Legislative Initiatives.

[FR Doc. 2016-19850 Filed 8-18-16; 8:45 am]

BILLING CODE 4210-67-P